DEPARTMENT OF COMMERCE

National Institute of Standards and Technology

NIST Safety Commission

AGENCY: National Institute of Standards and Technology, Department of Commerce.

ACTION: Notice of open meeting.

SUMMARY: The National Institute of Standards and Technology (NIST) Safety Commission (Commission) will meet on March 9, 2023, from 8:30 a.m. to 5 p.m. Mountain Time and March 10, 2023, from 8:30 a.m. to 5 p.m. Mountain Time. The purpose of this meeting is for the Commission to continue its assessment of the state of NIST's safety culture and how effectively the existing safety protocols and policies have been implemented across NIST. The agenda may change to accommodate Commission business. The final agenda will be posted on the NIST website at https://www.nist.gov/director/nist-safety-commission/march-9-10-nist-safety-commission-meeting-agenda.

DATES: The Commission will meet on March 9, 2023, from 8:30 a.m. to 5 p.m. Mountain Time and March 10, 2023, from 8:30 a.m. to 5 p.m. Mountain Time.

ADDRESSES: The meeting will be held at the National Institute of Standards and Technology, 325 Broadway, Boulder, CO 80305 for the NIST Safety Commission members and NIST Senior Leadership with an option to participate via webinar for NIST staff and public participants. Please note admittance instructions under the SUPPLEMENTARY INFORMATION section of this notice.

FOR FURTHER INFORMATION CONTACT: Corrine Lloyd, Special Programs Office, National Institute of Standards and Technology, at 301-975-8762 or corrine.lloyd@nist.gov.

SUPPLEMENTARY INFORMATION:

Authority: 15 U.S.C. 1512 and the Federal Advisory Committee Act, 5 U.S.C. 1001 et seq.

Pursuant to the Federal Advisory Committee Act, 5 U.S.C. 1001 et seq., notice is hereby given that the NIST Safety Commission will meet on March 9, 2023, from 8:30 a.m. to 5 p.m. Mountain Time and March 10, 2023, from 8:30 a.m. to 5 p.m. Mountain Time. The meeting will be open to the public. Members of the Commission are appointed by the Director of NIST. The Commission is composed of not more than seven members who are qualified to provide advice to the NIST Director on matters relating to safety policies; safety management system, practices, and performance; and safety culture. The primary purpose of this meeting is for the Commission to continue its assessment of the state of NIST's safety culture and how effectively the existing safety protocols and policies have been implemented across NIST. The agenda may change to accommodate Commission business. The final agenda will be posted on the NIST website at https://www.nist.gov/director/nist-safety-commission/march-9-10-nist-safety-commission-meeting-agenda.

Individuals and representatives of organizations who would like to offer comments and suggestions related to the Commission's business are invited to request a place on the agenda. Approximately 15 minutes will be reserved for public comments and speaking times will be assigned on a first come, first-serve basis. The amount of time per speaker will be determined by the number of requests received but is likely to be about three minutes each. Questions from the public will not be considered during this period. Requests must be submitted by email to Corrine Lloyd at corrine.lloyd@nist.gov and must be received by 4 p.m. Eastern Time, March 7, 2023 to be considered. Speakers who wish to expand upon their oral statements, those who had wished to speak but could not be accommodated on the agenda, and those who were unable to participate are invited to submit written statements by email to corrine.lloyd@nist.gov.

All NIST staff and public participants will be attending via webinar and must register at: https://events.nist.gov/profile/form/index.cfm?PKformID=0x18963abcd by 4:00 p.m. Eastern Time, March 7, 2023 for detailed instructions on how to join the webinar. Any questions regarding registration may be directed to Corrine Lloyd at corrine.lloyd@nist.gov.

Pursuant to 41 CFR 102-3.150(b), the Federal Register notice for this meeting is being published fewer than 15 calendar days prior to the meeting as exceptional circumstances exist. It is imperative that the meeting be held on March 9-10, 2023, to accommodate the tight working timeline of the Commission as set forth in its charter. Specifically, the charter requires the Commission to provide an oral briefing of its preliminary findings to the NIST Director within 75 days of beginning its activities, and written findings within 150 days of beginning its activities. The Commission intends to present its preliminary findings to NIST leadership at this meeting. Postponing this meeting would result in an unacceptable delay in the Commission's ability to report the findings and observations from the work of the Commission's three subcommittees, collect additional information from NIST staff at the Boulder campus, and to develop its final recommendations for NIST leadership, until well into the fall. The Federal Register notice could not be published previously due to logistical requirements needed to accommodate the timing requirement of the meeting, including unanticipated additional time required for completion of the work of the Commission's three subcommittees that will be reporting out at the meeting, and unanticipated additional time required to confirm availability of a representative of a third-party contractor to present on the results of the 2023 NIST Safety Culture Survey it conducted.

Alicia Chambers,
NIST Executive Secretariat.

[FR Doc. 2023-04590 Filed 3-6-23; 8:45 am]

BILLING CODE 3510-13-P